DEPARTMENT OF ENERGY

Federal Energy Regulatory Commission

[Docket No. AC03-59-000, et al.]

Entergy Gulf States, Inc., et al.; Electric Rate and Corporate Filings

July 29, 2003.

The following filings have been made with the Commission. The filings are listed in ascending order within each docket classification.

1. Entergy Gulf States, Inc.

[Docket No. AC03-59-000]

Take notice that on July 17, 2003, the Entergy Gulf States, Inc. made a compliance filing pursuant to the accounting and reporting requirements set forth by the Commission in Order 631, Accounting, Financial Reporting, and Rate Filing Requirements for Asset Retirement Obligations. The Commission directed jurisdictional entities to file journal entries and supporting information for any adjustments made that affect net income as a result of implementing the accounting rules contained in Order 631. Comment Date: August 19, 2003.

2. Dominion Transmission, Inc.

[Docket No. AC03-61-000]

Take notice that on July 18, 2003, Dominion Transmission, Inc. made a compliance filing pursuant to the accounting and reporting requirements set forth by the Commission in Order 631, Accounting, Financial Reporting, and Rate Filing Requirements for Asset Retirement Obligations. The Commission directed jurisdictional entities to file journal entries and supporting information for any adjustments made that affect net income as a result of implementing the accounting rules contained in Order 631. Comment Date: August 19, 2003.

3. Virginia Electric and Power Company

[Docket No. AC03-62-000]

Take notice that on July 18, 2003, the Virginia Electric and Power Company made a compliance filing pursuant to the accounting and reporting requirements set forth by the Commission in Order 631, Accounting, Financial Reporting, and Rate Filing Requirements for Asset Retirement Obligations. The Commission directed jurisdictional entities to file journal entries and supporting information for any adjustments made that affect net income as a result of implementing the accounting rules contained in Order 631. Comment Date: August 19, 2003.

4. Illinois Power Company

[Docket No. AC03-63-000]

Take notice that on July 21, 2003, the Illinois Power Company made a compliance filing pursuant to the accounting and reporting requirements set forth by the Commission in Order 631, Accounting, Financial Reporting, and Rate Filing Requirements for Asset Retirement Obligations. The Commission directed jurisdictional entities to file journal entries and supporting information for any adjustments made that affect net income as a result of implementing the accounting rules contained in Order 631. Comment Date: August 19, 2003.

5. Cincinnati Gas & Electric Company

[Docket No. AC03-64-000]

Take notice that on July 21, 2003, Cincinnati Gas & Electric Company made a compliance filing pursuant to the accounting and reporting requirements set forth by the Commission in Order 631, Accounting, Financial Reporting, and Rate Filing Requirements for Asset Retirement Obligations. The Commission directed jurisdictional entities to file journal entries and supporting information for any adjustments made that affect net income as a result of implementing the accounting rules contained in Order 631. Comment Date: August 19, 2003.

6. El Paso Electric Company

[Docket No. AC03-67-000]

Take notice that on July 22, 2003, El Paso Electric Company made a compliance filing pursuant to the accounting and reporting requirements set forth by the Commission in Order 631, Accounting, Financial Reporting, and Rate Filing Requirements for Asset Retirement Obligations. The Commission directed jurisdictional entities to file journal entries and supporting information for any adjustments made that affect net income as a result of implementing the accounting rules contained in Order 631. Comment Date: August 19, 2003.

7. Conectiv Delmarva Generation, Inc.

[Docket No. EG03-84-000]

Take notice that on July 24, 2003, Conectiv Delmarva Generation, Inc. (CDG) filed an Application for Determination of Exempt Wholesale Generator Status, pursuant to Section 32(a)(1) of the Public Utility Holding Company Act of 1935 (PUHCA).

CDG states that it owns and operates certain generating units located in the States of Delaware, Maryland and Virginia. CDG asserts that all of the CDG Generating Units are interconnected to the PJM Interconnection, LLC transmission system through interconnection with Delmarva Power & Light Company's transmission facilities. CDG further states that it has obtained orders from the regulatory commissions of Delaware, New Jersey, Maryland, Virginia and the District of Columbia that the CDG Generating Units are “Eligible Facilities” for the purposes of PUHCA and the Commission's exempt wholesale generator regulations.

CDG states that it has served this filing on the Maryland Public Service Commission, the Delaware Public Service Commission, the New Jersey Board of Public Utilities, the Virginia State Corporation Commission, the District of Columbia Public Service Commission and the Securities and Exchange Commission. Comment Date: August 19, 2003.

8. Conectiv Atlantic Generation, L.L.C.

[Docket No. EG03-85-000]

Take notice that on July 24, 2003, Conectiv Atlantic Generation, L.L.C. (CAG) filed with the Federal Energy Regulatory Commission (Commission) an Application for Determination of Exempt Wholesale Generator Status pursuant to Section 32(a)(1) of the Public Utility Holding Company Act of 1935 (PUHCA).

CAG states that it owns and operates certain generating units located in the State of New Jersey and that all of the CAG Generating Units are interconnected to the PJM Interconnection, LLC transmission system through interconnection with Atlantic City Electric Company's transmission facilities. CAG asserts that it has obtained orders from the regulatory commissions of Delaware, New Jersey, Maryland, Virginia and the District of Columbia that the CAG Generating Units are “Eligible Facilities” for the purposes of PUHCA and the Commission's exempt wholesale generator regulations.

CAG states that it has served this filing on the Maryland Public Service Commission, the Delaware Public Service Commission, the New Jersey Board of Public Utilities, the Virginia State Corporation Commission, the District of Columbia Public Service Commission and the Securities and Exchange Commission.

Comment Date: August 19, 2003.

9. Alliance Companies, et al., and National Grid USA

[Docket No. EL02-65-011]

Take notice that on July 24, 2003, the Midwest Independent Transmission System Operator, Inc. (Midwest ISO) and PJM Interconnection, L.L.C. (PJM) jointly filed with the Commission, for informational purposes, an implementation progress report in accordance with the Commission's July 31, 2002 order in the above-referenced docket, 100 FERC ¶ 61,137. This is fifth in a series of similar filings to be made on or about every 60 days.

Comment Date: August 25, 2003.

10. Central Hudson Gas & Electric Corporation, Consolidated Edison Company of New York, Inc., Long Island Lighting Company, New York State Electric and Gas Corporation, Niagara Mohawk Power Corporation, Orange and Rockland Utilities, Inc., Rochester Gas and Electric Corporation and New York Power Pool

[Docket Nos. ER97-1523-079, OA97-470-071, and ER97-4234-069]

Take notice that on July 23, 2003, Niagara Mohawk Power Corporation, a National Grid company and one of the Member Systems of the Transmission Owners Committee of the Energy Association of the State of New York, submitted a Compliance Filing pursuant to the Commission's May 7, 2003 Order issued in Docket Nos. ER9701523-070, OA97-470-065 and ER97-4234-063.

Comment Date: August 13, 2003.

11. California Independent System Operator Corporation

[Dockets Nos. ER02-1656-015 and EL01-68-028]

Take notice that on July 22, 2003, the California Independent System Operator Corporation (ISO) submitted an amendment to its Comprehensive Market Design Proposal filed on May 1, 2002 in the captioned proceedings. In its filing, the ISO seeks approval of its market redesign proposal.

The ISO states that copies of the this filing have been served on the Public Utilities Commission of California, the California Energy Commission, the California Electricity Oversight Board, all entities with effective ISO Scheduling Coordinator Agreements and all parties in these proceedings.

Comment Date: August 12, 2003

12. NorthWestern Energy, Division of NorthWestern Corporation

[Docket No. ER03-329-001]

Take notice that on July 22, 2003, NorthWestern Energy, a division of NorthWestern Corporation tendered for filing with the Federal Energy Regulatory Commission (Commission), in compliance with the Commission's Order dated February 13, 2002, revisions to its tariffs, rate schedules, and service agreements to reflect the name change and other designations and revised filing requirements pursuant to Section 35.9 of the Commission's rules and regulations and Order No. 614.

Comment Date: August 12, 2003.

13. New York Independent System Operator, Inc.

[Docket Nos. ER03-552-003, and ER03-984-001]

Take notice that on July 23, 2003, the New York Independent System Operator, Inc. (NYISO) submitted responses to the Commission's Data Request, dated July 8, 2003, regarding proposed creditworthiness requirements for customers participating in the NYISO-administered markets. NYISO states that the responses serve to amend the NYISO's March 6, 2003, filing in Docket Nos. ER03-552-002 and ER03-984-000.

The NYISO states it has served a copy of this filing upon all parties named on the official service list for this proceeding.

Comment Date: August 13, 2003.

14. Entergy Services, Inc.

[Docket No. ER03-599-003]

Take notice that on July 22, 2003, Entergy Services, Inc., (Entergy Services) on behalf of Entergy Arkansas, Inc. (Entergy Arkansas), tendered for filing revisions to Entergy Arkansas' 2003 Wholesale Formula Rate Update.

Comment Date: August 12, 2003.

15. Southern Company Services, Inc.

[Docket No. ER03-1099-000]

Take notice that on July 22, 2003, Southern Company Services, Inc., acting on behalf of Alabama Power Company (APC), filed with the Federal Energy Regulatory Commission (Commission) a Notice of Cancellation of the Interconnection Agreement between GenPower Kelley, L.L.C. and APC (Service Agreement No. 360 under Southern Companies' Open Access Transmission Tariff, Fourth Revised Volume No. 5). An effective date of February 14, 2003 has been requested.

Comment Date: August 12, 2003.

16. Cleco Power LLC

[Docket No. ER03-1100-000]

Take notice that on July 22, 2003, Cleco Power LLC (Cleco) filed changes to Section 30.2 of its Open Access Transmission Tariff. FERC Electric Tariff, Original Volume No. 1, Original Sheet No. 41A to implement a new procedure for designating Replacement Network Resources for generating facilities directly connected to Cleco's transmission system on a firm basis for periods shorter than one-year and for additional resources not directly connected to Cleco's transmission system. Cleco submits First Revised Sheets No. 41A to its FERC Electric Tariff, Original Volume No. 1 and proposes that it be made effective July 23, 2003.

Comment Date: August 12, 2003.

17. California Independent System Operator Corporation

[Docket No. ER03-1102-000]

Take notice that on July 22, 2003, the California Independent System Operator Corporation (CAISO), submitted Amendment No. 55 to the ISO Tariff. CAISO states that Amendment No. 55 would modify the ISO Tariff in several respects to provide the CAISO with a necessary and effective Oversight and Investigation Program. The CAISO requests that the Commission make the proposed Tariff changes effective September 20, 2003.

CAISO states that it has served this filing to the California Public Utilities Commission, the California Energy Commission, the California Electricity Oversight Board, and all parties with effective Scheduling Coordinator Service Agreements under the ISO Tariff. In addition, the CAISO has posted a copy of the filing under its Home Page.

Comment Date: August 12, 2003.

18. FPL Energy South Dakota Wind, LLC

[Docket No. ER03-1103-000]

Take notice that on July 22, 2003, FPL Energy South Dakota Wind, LLC tendered for filing an application for authorization to sell energy and capacity at market-based rates pursuant to section 205 of the Federal Power Act.

Comment Date: August 12, 2003.

19. FPL Energy North Dakota Wind, LLC

[Docket No. ER03-1104-000]

Take notice that on July 22, 2003, FPL Energy North Dakota Wind, LLC tendered for filing an application for authorization to sell energy and capacity at market-based rates pursuant to section 205 of the Federal Power Act.

Comment Date: August 12, 2003.

20. FPL Energy North Dakota Wind II, LLC

[Docket No. ER03-1105-000]

Take notice that on July 22, 2003, FPL Energy North Dakota Wind II, LLC tendered for filing an application for authorization to sell energy and capacity at market-based rates pursuant to section 205 of the Federal Power Act.

Comment Date: August 12, 2003.

21. Timber Energy Resources, Inc.

[Docket No. ER03-1106-000]

Take notice that on July 22, 2003, Timber Energy Resources, Inc. submitted pursuant to Section 35.15 of the Federal Energy Regulatory Commission's regulations, 18 CFR 35.15, a notice canceling Timber Energy Resources Inc.'s FERC Rate Schedule No. 1. Timber Energy Resources, Inc. requests that the cancellation be made effective July 18, 2003.

Comment Date: August 12, 2003.

22. Ameren Services Company

[Docket No. ER03-1107-000]

Take notice that on July 23, 2003, Ameren Services Company (ASC) tendered for filing executed Service Agreements for Firm Point-to-Point Service and Non-Firm Point-to-Point Transmission Service between ASC and Eagle Energy Partners I, L.P. ASC states that the purpose of the Agreements is to permit ASC to provide transmission service to Eagle Energy Partners I, L.P. pursuant to Ameren's Open Access Transmission Tariff.

Comment Date: August 13, 2003.

23. Power Contract Financing II, L.L.C.

[Docket No. ER03-1108-000]

Take notice that on July 23, 2003, Power Contract Financing II, L.L.C. (PCF II, LLC) petitioned the Commission for acceptance of PCF II, LLC's Rate Schedule FERC No. 1; the granting of certain blanket approvals, including the authority to sell electricity at market-based rates; and the waiver of certain Commission regulations.

Comment Date: August 13, 2003.

24. Power Contract Financing II, Inc.

[Docket No. ER03-1109-000]

Take notice that on July 23, 2003, Power Contract Financing II, Inc. (PCF II, Inc.) petitioned the Commission for acceptance of PCF II, Inc.'s Rate Schedule FERC No. 1; the granting of certain blanket approvals, including the authority to sell electricity at market-based rates; and the waiver of certain Commission regulations.

Comment Date: August 13, 2003.

25. Idaho Power Company

[Docket No. OA03-8-000]

Take notice that on July 24, 2003, Idaho Power Company (Idaho Power) tendered for filing with the Federal Energy Regulatory Commission (Commission) revised Standards of Conduct Procedures.

Comment Date: August 25, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Linda Mitry,
Acting Secretary.

[FR Doc. 03-19894 Filed 8-4-03; 8:45 am]

BILLING CODE 6717-01-P